DEPARTMENT OF STATE

[Public Notice 3262]

Information Collection; Comment Request

AGENCY: Department of State.

ACTION: 30-Day Notice of Information Collection; Joint Survey on Public-Private Partnership of the Alliance for International Educational and Cultural Exchange (Alliance) and the Interagency Working Group on U.S. Government-Sponsored International Exchanges and Training (IAWG).

SUMMARY: The Department of State has submitted the following information collection request to the Office of Management and Budget (OMB) for approval in accordance with the Paperwork Reduction Act of 1995. Comments should be submitted to OMB within 30 days of the publication of this notice.

The following summarizes the information collection proposal submitted to OMB:

Type of Request: New information collection request.

Originating Office: ECA/C.

Title of Information Collection: Joint Survey on Public-Private Partnership of the Alliance for International Educational and Cultural Exchange (Alliance) and the Interagency Working Group on U.S. Government-sponsored International Exchanges and Training (IAWG).

Frequency: This collection is the first effort and every effort will be made to keep additional information collection activities to the minimum required for effective reporting within the IAWG mandate.

Form Number: None.

Respondents: Private sector organizations that are involved in international training and exchange activities.

Estimated Number of Respondents: 1,200.

Average Hours Per Response: 45 minutes.

Total Estimated Burden: None, the total time, effort or financial resources expended to generate survey responses would not go beyond those that would be incurred in the normal course of an organization's administrative activities.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER ADDITIONAL INFORMATION: Copies of the proposed information collection and supporting documents may be obtained from Mary O'Boyle Franko, Suite 320, 301 4th Street, SW, 202-260-5124, ECA/C, U.S. Department of State, Washington, DC 20520. Public comments and questions should be directed to the State Department Desk Officer, Office of Information and Regulatory Affairs, Office of Management and Budget (OMB), Washington, DC 20530, (202) 395-5871.

Dated: February 18, 2000.
James D. Whitten,
Executive Director, Bureau of Educational and Cultural Affairs, U.S. Department of State.

[FR Doc. 00-7353 Filed 3-24-00; 8:45 am]

BILLING CODE 4710-11-P